DEPARTMENT OF AGRICULTURE

Animal and Plant Health Inspection Service

[Docket No. APHIS-2013-0074]

Notice of Request for Revision to and Extension of Approval of an Information Collection; Importation of Live Swine, Pork, and Pork Products from Certain Regions Free of Classical Swine Fever in Brazil, Chile, and Mexico

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of live swine, pork, and pork products from certain regions free of classical swine fever in Brazil, Chile, and Mexico.

DATES: We will consider all comments that we receive on or before December 2, 2013.

ADDRESSES: You may submit comments by either of the following methods:

• Federal eRulemaking Portal: Go to http://www.regulations.gov/#!documentDetail;D=APHIS-2013-0074-0001.

• Postal Mail/Commercial Delivery: Send your comment to Docket No. APHIS-2013-0074, Regulatory Analysis and Development, PPD, APHIS, Station 3A-03.8, 4700 River Road Unit 118, Riverdale, MD 20737-1238.

Supporting documents and any comments we receive on this docket may be viewed at http://www.regulations.gov/#!docketDetail;D=APHIS-2013-0074 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of live swine, pork, and pork products from certain regions free of classical swine fever in Brazil, Chile, and Mexico, contact Dr. Magde Elshafie, Senior Staff Veterinary Medical Officer, TTS, NCIE, VS, APHIS, 4700 River Road Unit 40, Riverdale, MD 20737; (301) 851-3300. For copies of more detailed information on the information collection, contact Mrs. Celeste Sickles, APHIS' Information Collection Coordinator, at (301) 851-2908.

SUPPLEMENTARY INFORMATION: Title: Importation of Live Swine, Pork, and Pork Products From Certain Regions Free of Classical Swine Fever in Brazil, Chile, and Mexico.

OMB Number: 0579-0230.

Type of Request: Revision to and extension of approval of an information collection.

Abstract: Under the Animal Health Protection Act (7 U.S.C. 8301 et seq.), the Animal and Plant Health Inspection Service (APHIS) of the United States Department of Agriculture is authorized, among other things, to prohibit or restrict the importation and interstate movement of animals and animal products to prevent the introduction into and dissemination within the United States of livestock diseases and pests. To carry out this mission, APHIS regulates the importation of animals and animal products into the United States. The regulations for the importation of animals and animal products are contained in 9 CFR parts 92 through 98.

Part 94 allows the importation, under certain conditions, of live swine, pork, and pork products from certain regions that are free of classical swine fever (CSF) in Brazil, Chile, and Mexico to prevent the introduction of CSF into the United States. In accordance with § 94.25, APHIS recognizes certain regions in Brazil, Chile, and Mexico as free of CSF but places restrictions on the importation of live swine, pork, and pork products from these regions. These restrictions are placed because these regions either supplement their pork supplies by importing fresh (chilled or frozen) pork from CSF-affected regions, supplement their pork supplies with pork from CSF-affected regions that is not processed in accordance with the requirements in part 94, share a common land border with CSF-affected regions, or import live swine from such regions under conditions less restrictive than would be acceptable for importation into the United States.

To ensure that the importation of live swine, pork, and pork products from Brazil, Chile, and Mexico do not introduce CSF into the United States, the regulations include certain information collection activities, including certificates, compliance agreements, and cooperative service agreements. These information collection activities were previously approved by the Office of Management and Budget (OMB) for Chile and Mexico. However, on November 16, 2010 (75 FR 69851-69857, Docket No. APHIS-2009-0034), APHIS amended the regulations to add the Brazilian State of Santa Catarina to the list of regions in § 94.25.

In addition, since the last approval of this collection, the demand for imported pork and pork products has increased, which is reflected by an increased number of certificates issued by foreign veterinarians. As a result, we have increased the estimated annual number of responses and the estimated total annual burden on respondents from 86 to 768.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1.0 hours per response.

Respondents: Federal animal health officials of the Governments of Brazil, Chile, and Mexico.

Estimated annual number of respondents: 11.

Estimated annual number of responses per respondent: 69.8.

Estimated annual number of responses: 768.

Estimated total annual burden on respondents: 768 hours. (Due to averaging, the total annual burden hours may not equal the product of the annual number of responses multiplied by the reporting burden per response.)

All responses to this notice will be summarized and included in the request for OMB approval. All comments will also become a matter of public record.

Done in Washington, DC, this 26th day of September 2013.
Michael C. Gregoire,
Acting Administrator, Animal and Plant Health Inspection Service.

[FR Doc. 2013-24095 Filed 10-2-13; 8:45 am]

BILLING CODE 3410-34-P